SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before September 16, 2013.

ADDRESSES: Send all comments regarding whether this information collection is necessary for the proper performance of the function of the agency, whether the burden estimates are accurate, and if there are ways to minimize the estimated burden and enhance the quality of the collection, to Carol Fendler, Supervisor System Accountant, Office of Investment, Small Business Administration, 409 3rd Street, 6th Floor, Washington, DC 20416.

FOR FURTHER INFORMATION CONTACT: Carol Fendler, Supervisor System Accountant, 202-205-7559 carol.fendler@sba.gov, Curtis B. Rich, Management Analyst, 202-205-7030 curtis.rich@sba.gov.

Title: ”Stockholders Confirmation (Corporation) Ownership Confirmation (Partnership)”.

Abstract: Forms 1405 and 1405A are used by Small Business Administration (SBA) examiners as part of their examination of licensed small business investment companies (SBICs). This information collection provides independent third party confirmation of an SBIC's representations concerning its owners, and helps SBA to evaluate the SBIC's compliance with applicable laws and regulations concerning capital requirements.

Form Number's: 1405, 1405 A.

Annual Responses: 500.

Annual Burden: 500.

Curtis Rich,
Management Analyst.

[FR Doc. 2013-16994 Filed 7-15-13; 8:45 am]

BILLING CODE P